DEPARTMENT OF COMMERCE

Foreign-Trade Zones Board

[S-54-2020]

Foreign-Trade Zone 47—Boone County, Kentucky, Application for Subzone, Mitsubishi Electric Automotive America, Inc., Maysville, Kentucky

An application has been submitted to the Foreign-Trade Zones Board (the Board) by the Greater Cincinnati Foreign Trade Zone, Inc., grantee of FTZ 47, requesting subzone status for the facility of Mitsubishi Electric Automotive America, Inc. (MEAA), located in Maysville, Kentucky. The application was submitted pursuant to the provisions of the Foreign-Trade Zones Act, as amended (19 U.S.C. 81a-81u), and the regulations of the Board (15 CFR part 400). It was formally docketed on April 2, 2020.

The proposed subzone (25.4 acres) is located at 1703 and 1705 Downing Drive Maysville, Mason County. No authorization for production activity has been requested at this time. The proposed subzone would be subject to the existing activation limit of FTZ 47.

In accordance with the Board's regulations, Elizabeth Whiteman of the FTZ Staff is designated examiner to review the application and make recommendations to the Executive Secretary.

Public comment is invited from interested parties. Submissions shall be addressed to the Board's Executive Secretary and sent to: ftz@trade.gov. The closing period for their receipt is May 18, 2020. Rebuttal comments in response to material submitted during the foregoing period may be submitted during the subsequent 15-day period to June 2, 2020.

A copy of the application will be available for public inspection in the “Reading Room” section of the Board's website, which is accessible via www.trade.gov/ftz.

For further information, contact Elizabeth Whiteman at Elizabeth.Whiteman@trade.gov or (202) 482-0473.

Dated: April 2, 2020.
Andrew McGilvray,
Executive Secretary.

[FR Doc. 2020-07396 Filed 4-7-20; 8:45 am]

BILLING CODE 3510-DS-P